DEPARTMENT OF LABOR

Employment and Training Administration

[TA-W-81,210]

Verso Paper Corporation, Sartell Mill Division, Including On-Site Leased Workers From Securitas Security Services, Manpower, Inc., Banick Logging, Inc., Beck Lumber Company, Bell Timber, Inc., Benson Timber, Inc., Big H Logging, Demenge Trucking & Forest Products, LLC, Dick Walsh Forest Products, Dobbs Logging, Inc., Douglas Hustad Logging, Dukek Logging, Inc.—Dukek Trucking, Inc., Edin Logging, Inc., Enberg Logging Supply, Great Northern Logging, Inc., Gregerson Logging, Haverinen Brothers Logging, Hodgden Logging, Inc., Holden Logging, Hufnagle Forest Resources, LLC, Johnson Timber Harvesting, Inc., Kimball Logging, Inc., Koski Wood Services, Larson Lumber Company, Lovdahl & Sons, LLC, Lundberg Forest Products, Inc., Mccabe Forest Products, Inc., Nelson Brothers Logging, LLC, North Shore Forest Products, Inc., Northern Logging, Inc., Northland Timber Company, Olson Forest Products, Pelland Logging, Inc., Richard Dukek Logging, Inc., Riverdale Environmental Svcs, Inc., Ron Weiss Logging, Inc., Roy Lundmark Company, Sawyer Enterprise, LLC, Sawyer Timber Co., LLP, Shawn Fletcher Trucking, Skoe Lumber Company, Timberline Trucking, Inc., Trout Enterprise, Inc., and Wood Forest Products, Inc. and Including Bryce Kowalzek and Ted Kromy, Sartell, Minnesota; Amended Certification Regarding Eligibility To Apply for Worker Adjustment Assistance

In accordance with Section 223 of the Trade Act of 1974, as amended (“Act”), 19 U.S.C. 2273, the Department of Labor issued a Certification of Eligibility to Apply for Worker Adjustment Assistance on February 1, 2012, applicable to workers and former workers of Verso Paper Corporation, Sartell Mill Division, Sartell, Minnesota (Verso). The subject firm worker group did not include on-site leased workers. The workers' firm is engaged in activities related to the production of coated mechanical and supercalendered paper for various commercial printing applications.

Based on information provided in a later-filed petition, the Department reviewed the certification for Verso.

Additional information provided by the company official and the State of Minnesota revealed that the subject worker group includes on-site leased workers from several commercial entities as well as two on-site contractors (Bryce Kowalzek and Ted Kromy). The certification is being amended to reflect this new information.

The intent of the Department's certification is to include all workers of Verso who have met the appropriate TAA criteria.

Based on these findings, the Department is amending this certification to include on-site leased workers from Securitas Security Services, Manpower, Inc., Banick Logging, Inc., Beck Lumber Company, Bell Timber, Inc., Benson Timber, Inc., Big H Logging, Demenge Trucking & Forest Products, LLC, Dick Walsh Forest Products, Dobbs Logging, Inc., Douglas Hustad Logging, Dukek Logging, Inc.—Dukek Trucking, Inc., Edin Logging, Inc., Enberg Logging Supply, Great Northern Logging, Inc., Gregerson Logging, Haverinen Brothers Logging, Hodgden Logging, Inc., Holden Logging, Hufnagle Forest Resources, LLC, Johnson Timber Harvesting, Inc., Kimball Logging, Inc., Koski Wood Services, Larson Lumber Company, Lovdahl & Sons, LLC, Lundberg Forest Products, Inc., McCabe Forest Products, Inc., Nelson Brothers Logging LLC, North Shore Forest Products, Inc., Northern Logging, Inc., Northland Timber Company, Olson Forest Products, Pelland Logging, Inc., Richard Dukek Logging, Inc., Riverdale Environmental Services, Inc., Ron Weiss Logging, Inc., Roy Lundmark Company, Sawyer Enterprise, LLC, Sawyer Timber Co., LLP, Shawn Fletcher Trucking, Skoe Lumber Company, Timberline Trucking, Inc., Trout Enterprise, Inc., and Wood Forest Products, Inc., and including two individuals (Bryce Kowalzek and Ted Kromy), Sartell, Minnesota.

The amended notice applicable to TA-W-81,210 is hereby issued as follows:

All workers of Verso Paper Corporation, Sartell Mill Division, Sartell, Minnesota, including on-site leased workers from Securitas Security Services, Manpower, Inc., Banick Logging, Inc., Beck Lumber Company, Bell Timber, Inc., Benson Timber, Inc., Big H Logging, Demenge Trucking & Forest Products, LLC, Dick Walsh Forest Products, Dobbs Logging, Inc., Douglas Hustad Logging, Dukek Logging, Inc.—Dukek Trucking, Inc., Edin Logging, Inc., Enberg Logging Supply, Great Northern Logging, Inc., Gregerson Logging, Haverinen Brothers Logging, Hodgden Logging, Inc., Holden Logging, Hufnagle Forest Resources, LLC, Johnson Timber Harvesting, Inc., Kimball Logging, Inc., Koski Wood Services, Larson Lumber Company, Lovdahl & Sons, LLC, Lundberg Forest Products, Inc., McCabe Forest Products, Inc., Nelson Brothers Logging LLC, North Shore Forest Products, Inc., Northern Logging, Inc., Northland Timber Company, Olson Forest Products, Pelland Logging, Inc., Richard Dukek Logging, Inc., Riverdale Environmental Services, Inc., Ron Weiss Logging, Inc., Roy Lundmark Company, Sawyer Enterprise, LLC, Sawyer Timber Co., LLP, Shawn Fletcher Trucking, Skoe Lumber Company, Timberline Trucking, Inc., Trout Enterprise, Inc., and Wood Forest Products, Inc., and including Bryce Kowalzek and Ted Kromy, Sartell, Minnesota, who became totally or partially separated from that employment on or after December 27, 2012 through February 1, 2012, and all workers in the group threatened with total or partial separation from February 1, 2012 through February 1, 2014, are eligible to apply for adjustment assistance under Chapter 2 of Title II of the Trade Act of 1974, as amended.

Signed in Washington, DC, this 5th day of November, 2012.
Del Min Amy Chen,
Certifying Officer, Office of Trade Adjustment Assistance.

[FR Doc. 2012-28613 Filed 11-23-12; 8:45 am]

BILLING CODE 4510-FN-P